DEPARTMENT OF HEALTH AND HUMAN SERVICES

Office of the Secretary

Statement of Organization, Functions, and Delegations of Authority; Office of the National Coordinator for Health Information Technology

ACTION: Notice.

SUMMARY: The Office of the National Coordinator for Health Information Technology has reorganized its office in order to more effectively meet the mission outlined by The Health Information Technology for Economic and Clinical Health (HITECH) Act, part of the American Recovery and Reinvestment Act of 2009 (ARRA). The reorganization adds the position of Principal Deputy.

FOR FURTHER INFORMATION CONTACT: Sam Shellenberger, Office of the National Coordinator, Office of the Secretary, 200 Independence Ave., SW., Washington, DC 20201, 202-690-7151.

SUPPLEMENTARY INFORMATION: Part A, Office of the Secretary, Statement of Organization, Functions and Delegations of Authority for the Department of Health and Human Services, Chapter AR, Office of the National Coordinator for Health Information Technology (ONC), as amended at 74 FR 62785-62786, dated December 1, 2009, as corrected at 75 FR 49494, dated August 13, 2010, and as last amended at 76 FR 6795, dated February 8, 2011 is amended as follows:

I. Under Part A, Chapter AR, Office of the National Coordinator for Health Information Technology, Section AR.10 Organization, insert Office of the Principal Deputy as item B as follows and renumber items B through F accordingly:

B. Office of the Principal Deputy (ARA1): The Office of the Principal Deputy works with and reports directly to the National Coordinator and will be responsible for day-to-day operations, decision making and staff management of ONC. The Principal Deputy will oversee the activities of four offices within ONC: Office of the Deputy National Coordinator for Programs and Policy; Office of the Deputy National Coordinator for Operations; Office of Economic Analysis, Evaluation and Modeling; and, Office of the Chief Scientist. One of the current ONC offices, the Office of the Chief Privacy Officer, is a position mandated by the American Recovery and Reinvestment Act of 2009, and will continue to report to the National Coordinator.

II. Under Part A, Chapter AR, Office of the National Coordinator for Health Information Technology, Section AR.10 Organization, Paragraph C, “Office of Economic Analysis, Evaluation and Modeling (ARB),” delete the first sentence in its entirety and replace with the following: “The Office of Economic Analysis, Evaluation and Modeling is headed by a Director.”

III. Delegation of Authority. Pending further delegation, directives or orders by the Secretary or by the National Coordinator for Health Information Technology, all delegations and redelegations of authority made to officials and employees of affected organizational components will continue in them or their successors pending further redelegations, provided they are consistent with this reorganization.

Authority: 44 U.S.C. 3101.

Dated: October 13, 2011.
Kathleen Sebelius,
Secretary.

[FR Doc. 2011-27116 Filed 10-19-11; 8:45 am]

BILLING CODE 4150-45-P